DEPARTMENT OF AGRICULTURE

Notice of Information Collection, Request for Comment

AGENCY: United States Department of Agriculture (USDA).

ACTION: Notice and request for comments.

SUMMARY: The Office of the Chief Information Officer, as part of its continuing effort to reduce paperwork and respondent burden, invites the public to comment on the “Collection of Generic Clearance for Improving Customer Experience (OMB Circular A-11, Section 280 Implementation)” for approval under the Paperwork Reduction Act. The purpose of this request is to facilitate the Agency's ability to collect feedback from the public to continue to improve its services, thereby facilitating its compliance with statutory requirements and general principles of good governance. This notice announces our intent to submit this collection to Office of Management and Budget (OMB) for approval and solicit comments on specific aspects for the proposed information collection.

DATES: Comments on this notice must be received by March 30, 2026 to be assured of consideration.

ADDRESSES: All comments concerning this notice should be directed to the USDA Departmental Clearance Officer listed under FOR FURTHER INFORMATION CONTACT.

FOR FURTHER INFORMATION CONTACT: Levi S. Harrell, Departmental Clearance Officer; Information Management Division; Office of the Chief Information Officer (OCIO), 1400 Independence Avenue SW, Washington, DC 20250; email: Levi.Harrell@usda.gov. Persons with disabilities who require alternative means for communication should contact the USDA Target Center at (202) 720-2600 (voice) or 844-433-2774 (toll-free nationwide).

SUPPLEMENTARY INFORMATION:

Title: Collection of Generic Clearance for Improving Customer Experience (OMB Circular A-11, Section 280 Implementation).

OMB Number: 0503-0024.

OMB Expiration Date of Approval: Three years from the approval date.

Type of Request: Renewal/Extension of approval for a current information collection.

Abstract: Under the PRA, (44 U.S.C. 3501-3520) Federal agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, the Agency is publishing notice of the proposed collection of information set forth in this document.

Under the Government Service Delivery Improvement Act and the 21st Century Integrated Digital Experience Act, along with OMB guidance, agencies are obligated to continually improve the services they provide the public and to collect qualitative and quantitative data from the public to do so.

The purpose of this request is to facilitate the Agency's ability to collect feedback from the public to continue to improve its services, thereby facilitating its compliance with statutory requirements and general principles of good governance.

The Agency will only submit collections if they meet the following criteria.

• The collections are voluntary;

• The collections are low-burden for respondents (based on considerations of total burden hours or burden-hours per respondent) and are low-cost for both the respondents and the Federal Government;

• The collections are non-controversial, meaning they do not raise issues that warrant public comment;

• Any collection is targeted to the solicitation of opinions from respondents who have experience with the program or may have experience with the program in the near future;

• Personally identifiable information (PII) is collected only to the extent necessary and the Agency will comply with applicable legal and policy requirements to ensure its protection;

• Information gathered is intended to be used for general service improvement and program management purposes;

• The Agency will follow the procedures specified in any relevant OMB guidance for the required reporting to OMB of data from surveys;

• Outside of the reporting mentioned in the bullet immediately above, if the Agency intends to release journey maps, user personas, reports, or other data-related summaries stemming from this collection, the Agency must include appropriate caveats around those summaries, noting that conclusions should not be generalized beyond the sample, considering the sample size and response rates. The Agency must submit the data summary itself (e.g., the report) and the caveat language mentioned above to OMB before it releases them outside the Agency. OMB will engage in a passback process with the Agency.

Method of Collection

The Agency will collect this information by electronic means, when possible, as well as by mail, fax, telephone, technical discussions, and in-person interviews. The Agency may also utilize observational techniques to collect this information.

Annual Reporting Burden

Affected Public: Collections will be targeted to the solicitation of opinions from respondents who have experience with the program or may have experience with the program in the near future. For the purposes of this request, respondents are individuals, businesses, and organizations that interact with a Federal Government Agency or program, either directly or via a Federal contractor. This could include individuals or households; businesses or other for-profit organizations; not-for-profit institutions; State, local or tribal governments; Federal government; and universities.

Estimated Number of Respondents: 2,040,000.

Estimated Time per Response: Varied, dependent upon the data collection method used. The possible response time to complete a questionnaire or survey may be 3 minutes or up to 1.5 hours to participate in an interview.

Estimated Total Annual Burden Hours: 178,750.

Public Comments

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions to (1) develop, acquire, install, and utilize technology and systems for the purpose of collecting, validating and verifying information, processing and maintaining information, and disclosing and providing information; (2) train personnel and be able to respond to a collection of information, to search data sources, (3) complete and review the collection of information; and to transmit or otherwise disclose the information.

All written comments will be available for public inspection at Regulations.gov.

An agency may not conduct or sponsor, and a person is not required to respond to, a collection of information unless it displays a currently valid Office of Management and Budget control number.

Samuel Berry,
Chief Information Officer, Office of the Chief Information Officer.

[FR Doc. 2026-01515 Filed 1-26-26; 8:45 am]

BILLING CODE 3410-KR-P